DEPARTMENT OF THE INTERIOR

Office of the Secretary

[190D0102DM/DS64600000/DLSN00000.000000/DX.64601]

Notice of Senior Executive Service Performance Review Board Appointments

AGENCY: Office of the Secretary, Interior.

ACTION: Notice of Appointments.

SUMMARY: This notice provides the names of individuals who have been appointed to serve as members of the Department of the Interior Senior Executive Service (SES) Performance Review Board.

DATES: These appointments take effect upon publication in the Federal Register.

FOR FURTHER INFORMATION CONTACT: To request additional information about this notice, contact Raymond Limon, Deputy Assistant Secretary—Human Capital and Diversity/Chief Human Capital Officer, by email at Raymond_Limon@ios.doi.gov, or by telephone at (202) 208-5310.

SUPPLEMENTARY INFORMATION: The members of the Department of the Interior SES Performance Review Board are as follows:

ADDINGTON, CHARLES E.

ANDERSON, JAMES G.

ANDERTON, JAMES B.

ANGELLE, SCOTT A.

APPLEGATE, JAMES D. R.

ARGO, MICHAEL P.

ARROYO, BRYAN

AUSTIN, STANLEY J.

BAGLEY, TAMMY L.

BAIL, KRISTIN MARA

BATHRICK, MARK L.

BEALL, JAMES W.

BEARPAW, GEORGE WATIE

BEARQUIVER, KEVIN T.

BENEDETTO, KATHLEEN M. F.

BENGE, SHAWN T.

BERRY, DAVID A.

BLACK, MICHAEL S.

BLANCHARD, MARY JOSIE

BOCKMIER, JOHN M.

BOWKER, BRYAN L.

BOWRON, JESSICA L.

BRANUM, LISA A.

BROWN, LAURA B.

BROWN, WILLIAM Y.

BUCKNER, SHAWN M.

BURDEN, JOHN W.

BURKE, MARCELLA COLBERT

CAMERON, SCOTT J.

CANTOR, HOWARD M.

CARDINALE, RICHARD T.

CARL, LEON M.

CARLSON, JEFFREY O.

CASH, CASSIUS M.

CASON, JAMES E.

CELATA, MICHAEL A.

CLAYBORNE, ALFRED L.

CLINE, DONALD WALTER

COMBS, SUSAN

COMPTON, JEFFREY S.

CONNELL, JAMIE E.

CORDOVA-HARRISON, ELIZABETH

CRAFF, ROBERT C.

CRIBLEY, BUD C.

CRUICKSHANK, WALTER D.

CRUZ, MARK A.

CRUZAN, DARREN A.

DAVIS, KIMBRA G.

DAVIS, ROSE MARIE

DE LA VEGA, SCOTT ANTHONY

DEARMAN, TONY L.

DEVARIS, AIMEE MARIE

DOWNS, BRUCE M.

DUMONTIER, DEBRA L.

DUTSCHKE, AMY L.

EDSALL, DONNA LYNN

FERRERO, RICHARD C.

FLANAGAN, DENISE A.

FORD, JEROME E.

FRAZER, GARY D.

FREEMAN, SHAREE M.

FREIHAGE, JASON E.

FROST, HERBERT C.

FULP, TERRANCE J.

GALLAGHER, KEVIN T.

GIDNER, JEROLD L.

GLENN, DOUGLAS A.

GLOMB, STEPHEN J.

GOESSLING, SHANNON LEE

GOKLANY, INDUR M.

GONZALES-SCHREINER, ROSEANN C.

GONZALEZ, MARIA E.

GORDON, ROBERT E. JR.

GOULD, GREGORY J.

GRAY, LORRI J.

GUERTIN, STEPHEN D.

HAMBLETON, RYAN M.

HAMLEY, JEFFREY L.

HAMMOND, CASEY B.

HANNA, JEANETTE D.

HART, PAULA L.

HAWBECKER, KAREN S.

HERBST, LARS T.

HILDEBRANDT, BETSY J.

HILL, JASON ALAN

HOLMES, TROY EDWARD

HOMMEL, SCOTT C.

HOSKINS, DAVID WILLIAM

HUMBERT, HARRY L.

HUNTER, TERESA R.

JAMES, JAMES D. JR.

JORJANI, DANIEL H.

JOSS, LAURA

KEABLE, EDWARD T.

KENDALL, JAMES J. JR.

KINDRED, JOSHUA MICHAEL

KINSINGER, ANNE E.

KNIGHT, KAREN A.

KURTH, JAMES W.

LA COUNTE, DARRYL D. II

LAIRD, JOSHUA RADBILL

LAPOINTE, TIMOTHY L.

LAROCHE, DARRELL WILLIAM

LAWKOWSKI, GARY MICHAEL

LEHNERTZ, CHRISTINE S.

LILLIE, JULIETTE ANNE FALKNER

LIMON, RAYMOND A.

LODGE, CYNTHIA LOUISE

LORDS, DOUGLAS A.

LOUDERMILK, WELDON B.

LUEBKE, THOMAS A.

LUEDERS, AMY L.

MABRY, SCOTT L.

MACGREGOR, KATHARINE S.

MARTINEZ, CYNTHIA T.

MASHBURN, LORI K.

MAY, RICK A.

MAYTUBBY, BRUCE W.

MCALEAR, CHRISTOPHER J.

MCDOWALL, LENA E.

MCKEOWN, MATTHEW J.

MEHLHOFF, JOHN J.

MERCIER, BRYAN K.

MIDDLETON, BRANDON MURRAY

MIKKELSEN, ALAN WAYNE

MORRIS, DOUGLAS W.

MOSS, ADRIANNE L.

MOURITSEN, KAREN E.

MURILLO, DAVID G.

NEDD, MICHAEL D.

NGUYEN, NHIEN TONY

NOBLE, MICHAELA E.

NOWAKOWSKI, JUDY JENNIFER

OBERNESSER, RICHARD

OLSEN, MEGAN C.

ONEILL, KEITH JAMES

ORR, L. RENEE

ORTIZ, HANKIE P.

OWENS, GLENDA HUDSON

PALUMBO, DAVID M.

PAYNE, GRAYFORD F.

PELTOLA, EUGENE R. JR.

PEREZ, JEROME E.

PETERSON, PENNY LYNN

PFEIFFER, TAMARAH

PIERRE-LOUIS, ALESIA J.

PINTO, SHARON ANN

PULA, NIKOLAO IULI

QUINLAN, MARTIN J.

RAMOS, PEDRO M.

RAUCH, PAUL A.

RENKES, GREGG D.

REYNOLDS, MICHAEL T.

REYNOLDS, THOMAS G.

RHEES, BRENT B.

RIDEOUT, STERLING J. JR.

RIGGS, HELEN

ROBERSON, EDWIN L.

ROMANIK, PEG A.

ROSS, JOHN W.

RUGWELL, MARY J.

RUHS, JOHN F.

RUPERT, JEFFERY R.

RYAN, MICHAEL J.

SALOTTI, CHRISTOPHER P.

SAUVAJOT, RAYMOND MARC

SCHERER, KYLE E.

SCHNEIDER, MARGARET N.

SCHOCK, JAMES H.

SHEEHAN, DENISE E.

SHEPARD, ERIC N.

SHOLLY, CAMERON H.

SHOPE, THOMAS D.

SIEKANIEC, GREGORY EUGENE

SIMMONS, SHAYLA F.

SINGER, MICHELE F.

SKIPWITH, AURELIA

SMILEY, KARLA J.

SMITH, MARC ALAN

SMITH, PAUL DANIEL

SOGGE, MARK K.

SOUZA, PAUL

STEED, BRIAN C.

STEIGER, JOHN W.

STEVENS, BARTHOLOMEW S.

STEWARD, JAMES D.

STREATER, EDDIE R.

SUAZO, RAYMOND

SULLINS, TONY A.

TAHSUDA, JOHN III

TANNER, JOHN R.

THORSON, ROBYN

TODD, RAYMOND K.

TRAVNICEK, ANDREA J.

TUCKER, KAPRICE LYNCH

TUGGLE, BENJAMIN N.

TUPPER, MICHAEL H.

VELA, RAYMOND DAVID

VELASCO, JANINE M.

VIETZKE, GAY E.

VOGEL, ROBERT A.

WAINMAN, BARBARA W.

WALSH, NOREEN E.

WAYSON, THOMAS C.

WEBER, WENDI

WELCH, RUTH L.

WENGER, LANCE C.

WERKHEISER, WILLIAM H.

WEYERS, HOLLY S.

WHITE, JOHN ETHAN

WILLENS, TODD D.

WILLIAMS, LC

WILLIAMS, MARGARET C.

WOLF, ROBERT W.

WOODY, WILLIAM C.

WORONKA, THEODORE

WYNN, TODD M.

YOUNGER, CALLY A.

Authority: Title 5, U.S. Code, 4314(c)(4).

Raymond Limon,
Deputy Assistant Secretary—Human Capital and Diversity, Chief Human Capital Officer.

[FR Doc. 2018-26376 Filed 12-4-18; 8:45 am]

BILLING CODE 4334-63-P